DEPARTMENT OF THE INTERIOR

National Park Service

[NPS-WASO-NAGPRA-NPS0036076; PPWOCRADN0-PCU00RP14.R50000]

Notice of Inventory Completion: North Carolina Office of State Archaeology, Raleigh, NC

AGENCY: National Park Service, Interior.

ACTION: Notice.

SUMMARY: In accordance with the Native American Graves Protection and Repatriation Act (NAGPRA), the North Carolina Office of State Archaeology has completed an inventory of human remains and associated funerary objects and has determined that there is a cultural affiliation between the human remains and associated funerary objects and Indian Tribes or Native Hawaiian organizations in this notice. The human remains and associated funerary objects were removed from Jackson and Swain Counties, NC.

DATES: Repatriation of the human remains and associated funerary objects in this notice may occur on or after July 24, 2023.

ADDRESSES: Emily McDowell, Office of State Archaeology, 215 West Lane Street, Raleigh, NC 27616, telephone (919) 715-5599, email emily.mcdowell@ncdcr.gov.

SUPPLEMENTARY INFORMATION: This notice is published as part of the National Park Service's administrative responsibilities under NAGPRA. The determinations in this notice are the sole responsibility of the North Carolina Office of State Archaeology. The National Park Service is not responsible for the determinations in this notice. Additional information on the determinations in this notice, including the results of consultation, can be found in the inventory or related records held by the North Carolina Office of State Archaeology.

Description

Human remains representing, at minimum, two individuals were removed from Jackson County, NC. In 1992, these human remains were recovered during a salvage excavation conducted by Dr. David Moore, who was employed at the Office of State Archaeology. The excavation was conducted in response to the unanticipated discovery of significant archeological features during the construction of the K-8 Cullowhee Valley School. As a result, archeological sites 31JK32 and 31JK270 were registered. The archeological context of these individuals is unclear. We do not know whether they were recovered from the Connestee phase component (ca. 200-600 CE) or the Late Woodland component (ca. 800-1000 CE). The latter component is characterized by Napier-style pottery, which is associated with Muskogean presence or influence. No associated funerary objects are present.

Human remains representing, at minimum, 11 individuals were removed from Swain County, NC. In 1990, these human remains were excavated from the Ela Site, 31SW5, by Western Carolina University, during a survey for the East Elementary School. The human remains are associated with the Cherokee Qualla Phase occupation of the site, with some of the individuals being removed from a Qualla Phase structure. Following the excavation, the human remains were transferred to Wake Forest University in Winston Salem, NC, for analysis, and in 2010, they were transferred to the North Carolina Office of State Archaeology. No known individuals were identified. The 4,056 associated funerary objects are 1,591 pieces of fired clay, 1,048 flakes, 555 pottery sherds, 375 faunal elements, 316 pieces of shatter, 19 projectile points/projectile point fragments, 98 unworked items (such as mica), 12 charcoal samples, nine cobbles, six beads, 10 cores, five wedges, three polishers, two hammerstones, two bifaces, one spokeshave, one ceramic disc, one gaming stone, one soapstone sherd, and one shell gorget.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, the North Carolina Office of State Archaeology has determined that:

• The human remains described in this notice represent the physical remains of 13 individuals of Native American ancestry.

• The 4,056 objects described in this notice are reasonably believed to have been placed with or near individual human remains at the time of death or later as part of the death rite or ceremony.

• There is a relationship of shared group identity that can be reasonably traced between the human remains and associated funerary objects described in this notice and the Cherokee Nation; Eastern Band of Cherokee Indians; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 24, 2023. If competing requests for repatriation are received, the North Carolina Office of State Archaeology must determine the most appropriate requestor prior to repatriation. Requests for joint repatriation of the human remains and associated funerary objects are considered a single request and not competing requests. The North Carolina Office of State Archaeology is responsible for sending a copy of this notice to the Indian Tribes identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13309 Filed 6-21-23; 8:45 am]

BILLING CODE 4312-52-P